NATIONAL ARCHIVES AND RECORDS ADMINISTRATION

Senior Executive Service (SES) Performance Review Board; Members

AGENCY: National Archives and Records Administration.

ACTION: Notice; SES Performance Review Board.

SUMMARY: Notice is hereby given of the appointment of members of the National Archives and Records Administration (NARA) Performance Review Board.

DATES: This appointment is effective on September 27, 2005.

FOR FURTHER INFORMATION CONTACT: Steven G. Rappold, Human Resources Services Division (NHH), National Archives at College Park, 8601 Adelphi Road, College Park, MD 20740-6001, (301) 837-2084.

SUPPLEMENTARY INFORMATION: Section 4314(c) of Title 5, U.S.C., requires each agency to establish, in accordance with regulations prescribed by the Office of Personnel Management, one or more SES Performance Review Boards. The Board shall review the initial appraisal of a senior executive's performance by the supervisor and recommend final action to the appointing authority regarding matters related to senior executive performance.

The members of the Performance Review Board for the National Archives and Records Administration are: Lewis J. Bellardo, Deputy Archivist of the United States and Chief of Staff, Adrienne C. Thomas, Assistant Archivist for Administrative Services, and Michael J. Kurtz, Assistant Archivist for Records Services—Washington, DC. These appointments supersede all previous appointments.

Dated: September 22, 2005.
Allen Weinstein,
Archivist of the United States.

[FR Doc. 05-19285 Filed 9-26-05; 8:45 am]

BILLING CODE 7515-01-P